DEPARTMENT OF COMMERCE

Foreign-Trade Zones Board

[B-85-2014]

Foreign-Trade Zone 116—Port Arthur, Texas; Expansion of Subzone 116B; Total Petrochemicals & Refining USA, Inc.; Port Arthur and Jefferson County, Texas

An application has been submitted to the Foreign-Trade Zones (FTZ) Board by the Foreign-Trade Zone of Southeast Texas, Inc., grantee of FTZ 116, requesting an expansion of Subzone 116B on behalf of Total Petrochemicals & Refining USA, Inc. The application was submitted pursuant to the provisions of the Foreign-Trade Zones Act, as amended (19 U.S.C. 81a-81u), and the regulations of the FTZ Board (15 CFR part 400). It was formally docketed on November 25, 2014.

Subzone 116B was approved on September 18, 1995 (Board Order 772, 60 FR 49564, 9/26/95). The subzone (1,457 acres) currently consists of four sites located in Port Arthur and Jefferson County: Site 1 (1,244 acres)—main refinery complex located along the Neches River at State Farm to Market Highway 366 and 32nd St., Port Arthur; Site 2 (19 acres)—West Port Arthur Tank Farm located at Roosevelt and 53rd Streets, Port Arthur; Site 3 (194 acres)—refinery expansion site, located adjacent to the refinery at State Farm to Market Hwy 366, Port Arthur; and, Site 4—Sun Marine Terminal-Nederland tank storage facility (leased storage) located along the Neches River in Nederland.

The current request would add a pipeline that originates from the subzone's leased storage facility at Site 4 to the main refinery located at Site 1, as described in the application. No additional authorization for production activity has been requested at this time.

In accordance with the FTZ Board's regulations, Camille Evans of the FTZ Staff is designated examiner to review the application and make recommendations to the FTZ Board.

Public comment is invited from interested parties. Submissions shall be addressed to the FTZ Board's Executive Secretary at the address below. The closing period for their receipt is January 12, 2015. Rebuttal comments in response to material submitted during the foregoing period may be submitted during the subsequent 15-day period to January 26, 2015.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Camille Evans at Camille.Evans@trade.gov or (202) 482-2350.

Dated: November 25, 2014.
Andrew McGilvray,
Executive Secretary.

[FR Doc. 2014-28416 Filed 12-1-14; 8:45 am]

BILLING CODE 3510-DS-P